DEPARTMENT OF COMMERCE

National Oceanic and Atmospheric Administration

RIN 0648-XD61

Marine Mammals; File No. 10080

AGENCY: National Marine Fisheries Service (NMFS), National Oceanic and Atmospheric Administration (NOAA), Commerce.

ACTION: Notice; receipt of application.

SUMMARY: Notice is hereby given that Dr. Kathryn A. Ono, Department of Biological Sciences, University of New England, Biddeford, ME, has applied in due form for a permit to conduct research on marine mammals.

DATES: Written, telefaxed, or e-mail comments must be received on or before November 26, 2007.

ADDRESSES: The application and related documents are available for review upon written request or by appointment in the following office(s):

Permits, Conservation and Education Division, Office of Protected Resources, NMFS, 1315 East-West Highway, Room 13705, Silver Spring, MD 20910; phone (301)713-2289; fax (301)427-2521; and

Northeast Region, NMFS, One Blackburn Drive, Gloucester, MA 01930-2298; phone (978)281-9300; fax (978)281-9394.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 10080.

FOR FURTHER INFORMATION CONTACT: Tammy Adams or Jaclyn Daly, (301)713-2289.

SUPPLEMENTARY INFORMATION: The subject permit is requested under the authority of the Marine Mammal Protection Act of 1972, as amended (MMPA; 16 U.S.C. 1361 et seq.), and the regulations governing the taking and importing of marine mammals (50 CFR part 216).

The applicant requests a 5-year permit to examine expanding populations of the Western North Atlantic stocks of harbor seals (Phoca vitulina concolor) and grey seals (Halichoerus grypus) in the Gulf of Maine. The objectives of the study are to assess the state of harbor seal population health; determine movement and diving patterns of weaned harbor seal pups; compare disease loads, survival, and behavior of rehabilitated harbor seal pups with wild pups; and assess behavior, population dynamics, and health of grey seals. The research would involve capture of up to 200 harbor seals and 500 grey seals annually for attachment of flipper tags, physical examinations, and tissue sampling to assess health, behavior, and population dynamics. Up to 10 of the 400 harbor seals captured annually would have satellite tags attached for recording data on movement and dive patterns. An additional 100 grey seals annually may be remotely marked with paint or hair dye to facilitate behavioral observations. Up to 400 harbor seals, 2500 grey seals, 150 harp seals (Pagophilus groenlandicus), and 150 hooded seals (Cystophora cristata) may be harassed annually incidental to capture and sampling. The applicant has requested authorization for the unintentional research related mortality of up to 2 harbor seals and 4 grey seals annually.

In compliance with the National Environmental Policy Act of 1969 (42 U.S.C. 4321 et seq.), NMFS has initially determined that issuance of the proposed permit is consistent with a category of activities identified in NOAA Administrative Order 216-6 that do not individually or cumulatively have the potential to pose significant impacts on the quality of the human environment and are therefore exempted from further environmental review and requirements to prepare environmental review documents.

Concurrent with the publication of this notice in the Federal Register, NMFS is forwarding copies of this application to the Marine Mammal Commission and its Committee of Scientific Advisors.

Dated: Ocrober 23, 2007.
P. Michael Payne,
Chief, Permits, Conservation and Education Division, Office of Protected Resources, National Marine Fisheries Service.

[FR Doc. E7-21096 Filed 10-25-07; 8:45 am]

BILLING CODE 3510-22-S